RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s):

(1) Collection title: Investigation of Claim of Possible Days of Employment.

(2) Form(s) submitted: ID-5S (SUP).

(3) OMB Number: 3220-0196.

(4) Expiration date of current OMB clearance: 8/31/2004.

(5) Type of request: Extension of a currently approved collection.

(6) Respondents: Business or other for-profit.

(7) Estimated annual number of respondents: 80.

(8) Total annual responses: 80.

(9) Total annual reporting hours: 13.

(10) Collection description: Under the Railroad Unemployment Insurance Act, unemployment or sickness benefits are not payable for any day in which remuneration is payable or accrues to the claimant. The collection obtains information about compensation credited to an employee during a period when the employee claimed unemployment or sickness benefits from their railroad employer.

Additional Information or Comments: Copies of the forms and supporting documents can be obtained from Charles Mierzwa, the agency clearance officer (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. 04-15142 Filed 7-2-04; 8:45 am]

BILLING CODE 7905-01-P